DEPARTMENT OF TRANSPORTATION

Federal Aviation Administration

14 CFR Part 39

[Docket No. FAA-2018-1063; Product Identifier 2018-NM-160-AD; Amendment 39-19606; AD 2019-06-08]

RIN 2120-AA64

Airworthiness Directives; Airbus SAS Airplanes

AGENCY: Federal Aviation Administration (FAA), Department of Transportation (DOT).

ACTION: Final rule.

SUMMARY: We are adopting a new airworthiness directive (AD) for all Airbus SAS Model A330-223, A330-223F, A330-321, A330-322, and A330-323 airplanes. This AD was prompted by a report of fatigue cracking in the latch beam gussets on a certain thrust reverser (T/R). This AD requires a one-time special detailed inspection of certain latch beam gussets of certain T/Rs for cracks, and modifying the latch beam gussets of the T/Rs, if necessary, as specified in an European Aviation Safety Agency (EASA) AD, which is incorporated by reference. We are issuing this AD to address the unsafe condition on these products.

DATES: This AD is effective May 16, 2019.

The Director of the Federal Register approved the incorporation by reference of a certain publication listed in this AD as of May 16, 2019.

ADDRESSES: For the incorporation by reference (IBR) material described in the “Related IBR Material Under 1 CFR part 51” section in SUPPLEMENTARY INFORMATION, contact EASA, Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at http://www.regulations.gov.

Examining the AD Docket

You may examine the AD docket on the internet at http://www.regulations.gov by searching for and locating Docket No. FAA-2018-1063; or in person at Docket Operations between 9 a.m. and 5 p.m., Monday through Friday, except Federal holidays. The AD docket contains this final rule, the regulatory evaluation, any comments received, and other information. The address for Docket Operations (phone: 800-647-5527) is U.S. Department of Transportation, Docket Operations, M-30, West Building Ground Floor, Room W12-140, 1200 New Jersey Avenue SE, Washington, DC 20590.

FOR FURTHER INFORMATION CONTACT: Vladimir Ulyanov, Aerospace Engineer, International Section, Transport Standards Branch, FAA, 2200 South 216th St., Des Moines, WA 98198; telephone and fax 206-231-3229.

SUPPLEMENTARY INFORMATION:

Discussion

We issued a notice of proposed rulemaking (NPRM) to amend 14 CFR part 39 by adding an AD that would apply to all Airbus SAS Model A330-223, A330-223F, A330-321, A330-322, and A330-323 airplanes. The NPRM published in the Federal Register on December 28, 2018 (83 FR 67158). The NPRM was prompted by a report of fatigue cracking in the latch beam gussets on a certain T/R. The NPRM proposed to require a one-time special detailed inspection of certain latch beam gussets of certain T/Rs for cracks, and modifying the latch beam gussets of the T/Rs, if necessary, as specified in, and in accordance with, EASA AD 2018-0227, dated October 22, 2018 (“EASA AD 2018-0227”).

We are issuing this AD to address fatigue cracking in the latch beam gussets on a certain T/R, which, if not detected and corrected, could lead to crack propagation until part failure and potential departure of the T/R cascade during T/R operation, which could result in damage to the airplane and hazards to persons or property on the ground.

The EASA, which is the Technical Agent for the Member States of the European Union, has issued EASA AD 2018-0227 (also referred to as the Mandatory Continuing Airworthiness Information, or “the MCAI”), to correct an unsafe condition for all Airbus SAS Model A330-223, A330-223F, A330-321, A330-322, and A330-323 airplanes. The MCAI states:

A report was received of an in-service occurrence where an operator found a crack in the latch beam gussets of an affected TR [thrust reverser], between the forward (L2) and middle (L3) latches, adjacent to the aft cascade frame attachment bracket in the 6 o'clock beam. Subsequent investigation revealed that the crack surface of the latch beam gusset showed indication of high fatigue cycle, leading to development of a design modification, reinforcing the latch beam gussets. This was introduced through Airbus production mod 48539 (improvement of 6 o'clock latch beam) and Airbus issued the modification SB [Airbus Service Bulletin A330-78-3014, dated May 9, 2001] as a recommendation for in-service aeroplanes. Since these measures were introduced, a new case was reported of finding a crack beyond prediction at the latch beam gusset of an affected TR, on which the recommended modification SB had not been accomplished.

This condition, if not detected and corrected, could lead to crack propagation until part failure and potentially departure of TR cascade during TR operation, which could create runway hazards for other aeroplanes [which could result in damage to the airplane and hazards to persons or property on the ground].

To address this potential unsafe condition, Airbus issued the inspection SB [Airbus Service Bulletin A330-78-3024, dated June 28, 2018] to provide instructions for special detailed inspection (SDI) of the latch beam gussets.

For the reasons described above, this [EASA] AD requires a one-time SDI of the latch beam gussets between the forward and middle latches of the affected TR [for cracks] and, depending on findings, replacement with improved (reinforced, modified) TR latch beam gussets.

You may examine the MCAI in the AD docket on the internet at http://www.regulations.gov by searching for and locating Docket No. FAA-2018-1063.

Comments

We gave the public the opportunity to participate in developing this final rule. We received no comments on the NPRM or on the determination of the cost to the public.

Conclusion

We reviewed the relevant data and determined that air safety and the public interest require adopting this final rule as proposed, except for minor editorial changes. We have determined that these minor changes:

• Are consistent with the intent that was proposed in the NPRM for addressing the unsafe condition; and

• Do not add any additional burden upon the public than was already proposed in the NPRM.

Related IBR Material Under 1 CFR Part 51

EASA AD 2018-0227 describes procedures for a one-time special detailed inspection of the latch beam gussets between the forward and middle latches of the affected T/R for cracks and modifying the latch beam gussets. This material is reasonably available because the interested parties have access to it through their normal course of business or by the means identified in the ADDRESSES section and it is publicly available through the EASA website.

Costs of Compliance

We estimate that this AD affects 9 airplanes of U.S. registry. We estimate the following costs to comply with this AD:

Estimated Costs for Required Actions
Labor cost | Parts cost | Cost per product | Cost on U.S. operators
12 work-hours × $85 per hour = $1,020 | $0 | $1,020 | $9,180

We estimate the following costs to do any necessary on-condition action that would be required based on the results of any required actions. We have no way of determining the number of aircraft that might need this on-condition action:

Estimated Costs of On-Condition Actions
Labor cost | Parts cost | Cost per product
26 work-hours × $85 per hour = $2,210 (per thrust reverser) | $0 | $2,210 (per thrust reverser).

According to the manufacturer, some or all of the costs of this AD may be covered under warranty, thereby reducing the cost impact on affected individuals. We do not control warranty coverage for affected individuals. As a result, we have included all known costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-06-08 Airbus SAS: Amendment 39-19606; Docket No. FAA-2018-1063; Product Identifier 2018-NM-160-AD.

(a) Effective Date

This AD is effective May 16, 2019.

(b) Affected ADs

None.

(c) Applicability

This AD applies to all Airbus SAS Model A330-223, A330-223F, A330-321, A330-322, and A330-323 airplanes, certificated in any category, all manufacturer serial numbers.

(d) Subject

Air Transport Association (ATA) of America Code 78, Engine exhaust.

(e) Reason

This AD was prompted by a report of fatigue cracking in the latch beam gussets on a certain thrust reverser (T/R). We are issuing this AD to address this condition, which, if not detected and corrected, could lead to crack propagation until part failure and potential departure of the T/R cascade during T/R operation, which could result in damage to the airplane and hazards to persons or property on the ground.

(f) Compliance

Comply with this AD within the compliance times specified, unless already done.

(g) Requirements

Except as specified in paragraph (h) of this AD: Comply with all required actions and compliance times specified in, and in accordance with, the European Aviation Safety Agency (EASA) AD 2018-0227, dated October 22, 2018 (“EASA AD 2018-0227”).

(h) Exceptions to EASA AD 2018-0227

(1) For purposes of determining compliance with the requirements of this AD: Where EASA AD 2018-0227 refers to its effective date, this AD requires using the effective date of this AD.

(2) The “Remarks” section of EASA AD 2018-0227 does not apply to this AD.

(i) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (j) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2018-0227 that contains RC procedures and tests: Except as required by paragraph (i)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Related Information

For more information about this AD, contact Vladimir Ulyanov, Aerospace Engineer, International Section, Transport Standards Branch, FAA, 2200 South 216th St., Des Moines, WA 98198; telephone and fax 206-231-3229.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Aviation Safety Agency (EASA) AD 2018-0227, dated October 22, 2018.

(ii) [Reserved]

(3) For EASA AD 2018-0227, contact EASA, Konrad-Adenauer-Ufer 3, 50668 Cologne, Germany; telephone +49 221 89990 6017; email ADs@easa.europa.eu; Internet www.easa.europa.eu. You may find this EASA AD on the EASA website at https://ad.easa.europa.eu.

(4) You may view this EASA AD at the FAA, Transport Standards Branch, 2200 South 216th St., Des Moines, WA. For information on the availability of this material at the FAA, call 206-231-3195. EASA AD 2018-0227 may be found in the AD docket on the internet at http://www.regulations.gov by searching for and locating Docket No. FAA-2018-1063.

(5) You may view this material that is incorporated by reference at the National Archives and Records Administration (NARA). For information on the availability of this material at NARA, call 202-741-6030, or go to: http://www.archives.gov/federal-register/cfr/ibr-locations.html.

Issued in Des Moines, Washington, on March 25, 2019.
Michael Kaszycki,
Acting Director, System Oversight Division, Aircraft Certification Service.

[FR Doc. 2019-07186 Filed 4-10-19; 8:45 am]

BILLING CODE 4910-13-P